FEDERAL COMMUNICATIONS COMMISSION

47 CFR Part 73

[DA 23-464; MB Docket No. 23-45; RM-11945; FR ID 146177]

Radio Broadcasting Services; Peach Springs, Arizona

AGENCY: Federal Communications Commission.

ACTION: Final rule.

SUMMARY: This document amends the FM Table of Allotments, of the Federal Communications Commission's (Commission) rules, by substituting Channel 287A for vacant Channel 280A at Peach Springs, Arizona to accommodate the hybrid modification application for Station KIDD(FM), Fort Mohave, Arizona to specify operation on Channel 280C2 in lieu of Channel 280A. A staff engineering analysis indicates that Channel 287A can be allotted to Peach Springs, Arizona, consistent with the minimum distance separation requirements of the Commission's rules, with a site restriction of 12.6 km (7.8 miles) northeast of the community. The reference coordinates are 35-33-18 NL and 113-18-02 WL.

DATES: Effective July 17, 2023.

FOR FURTHER INFORMATION CONTACT: Rolanda F. Smith, Media Bureau, (202) 418-2054.

SUPPLEMENTARY INFORMATION: This is a synopsis of the Commission's Report and Order, adopted May 31, 2023 and released May 31, 2023. The full text of this Commission decision is available online at https://apps.fcc.gov/ecfs/. The full text of this document can also be downloaded in Word or Portable Document Format (PDF) at https://www.fcc.gov/edocs. This document does not contain information collection requirements subject to the Paperwork Reduction Act of 1995, Public Law 104-13.

The Commission will send a copy of the Report and Order in a report to be sent to Congress and the Government Accountability Office pursuant to the Congressional Review Act, see 5 U.S.C. 801(a)(1)(A).

List of Subjects in 47 CFR Part 73

Radio, Radio broadcasting.

Federal Communications Commission.
Nazifa Sawez,
Assistant Chief, Audio Division, Media Bureau.

Final Rules

For the reasons discussed in the preamble, the Federal Communications Commission amends 47 CFR part 73 as follows:

PART 73—RADIO BROADCAST SERVICES

1. The authority citation for part 73 continues to read as follows:

Authority: 47 U.S.C. 154, 155, 301, 303, 307, 309, 310, 334, 336, 339.

2. In § 73.202, in paragraph (b), amend the Table of FM Allotments under Arizona, by revising the entry for “Peach Springs” to read as follows:

§ 73.202 Table of Allotments.

* * * * *

(b) Table of FM Allotments.

Table 1 to Paragraph (b)
U.S. States | Channel No.
Arizona
* * * * *
Peach Springs | 287A
* * * * *

[FR Doc. 2023-12235 Filed 6-7-23; 8:45 am]

BILLING CODE 6712-01-P